FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than November 3, 2006.

A. Federal Reserve Bank of Philadelphia (Michael E. Collins, Senior Vice President) 100 North 6th Street, Philadelphia, Pennsylvania 19105-1521:

1. Conestoga Bancorp, Inc., Chester Springs, Pennsylvania; to merge with PSB Bancorp, Inc., Philadelphia, Pennsylvania, and thereby indirectly acquire voting shares of First Penn Bank, Philadelphia, Pennsylvania.

In connection with this application, Applicant also has applied to acquire Jade Abstract Company, Feasterville, Pennsylvania, and engage in providing real estate settlement services, and Jade Insurance Agency, Inc., Feasterville, Pennsylvania, and engage in providing credit insurance, pursuant to sections 225.28(b)(2)(viii) and 225.28(b)(11)(i) of Regulation Y respectively.

2. Sterling Banks, Inc. Mount Laurel, New Jersey; to become a bank holding company by acquiring 100 percent of the voting shares of Sterling Bank, Mount Laurel, New Jersey.

In connection with this application, applicant also has applied to acquire Farnsworth Bancorp, Inc., Bordentown, New Jersey, and thereby acquire Peoples Savings Bank, Bordentown, New Jersey, and engage in operating a savings bank, pursuant to section 225.25(b)(4)(ii) of Regulation Y.

B. Federal Reserve Bank of Chicago (Patrick M. Wilder, Assistant Vice President) 230 South LaSalle Street, Chicago, Illinois 60690-1414:

1. Dearborn Bancorp, Inc., Dearborn, Michigan; to merge with Fidelity Financial Corporation of Michigan, Birmingham, Michigan, and thereby indirectly acquire Fidelity Bank, Birmingham, Michigan.

Board of Governors of the Federal Reserve System, October 4, 2006.
Robert deV. Frierson,
Deputy Secretary of the Board.

[FR Doc. E6-16705 Filed 10-10-06; 8:45 am]

BILLING CODE 6210-01-S